DEPARTMENT OF TRANSPORTATION

Federal Highway Administration

Federal Railroad Administration

Environmental Impact Statement: Kelso-Martin's Bluff Rail Project, Washington

AGENCY: Federal Highway Administration (FHWA), and Federal Railroad Administration (FRA), Department of Transportation (DOT).

ACTION: Notice of intent.

SUMMARY: The FHWA and the FRA are issuing this notice to advise the public that as joint lead federal agencies and in cooperation with the Washington State Department of Transportation, they will prepare an environmental impact statement for a proposed rail corridor improvement project on the Burlington Northern Santa Fe Railroad mainline between Kelso and Martin's Bluff (south of Kalama, Washington).

FOR FURTHER INFORMATION CONTACT: Mr. Gary S. Hughes, Federal Highway Administration, Evergreen Plaza Building, 711 South Capitol Way, Suite 501, Olympia, Washington 98501, Telephone: (360) 753-9025; Mr. David Valenstein, Federal Railroad Administration, 1120 Vermont Avenue, NW., MS-20, Washington, DC 20590, Telephone: (202) 493-6368; or Mr. James Slakey, Washington State Department of Transportation, 310 Maple Park Southeast, Olympia, Washington 98504, Telephone: (360) 705-7920.

SUPPLEMENTARY INFORMATION: On October 22, 1992, the U.S. Department of Transportation designated the existing rail corridor from Eugene, Oregon through Portland, Oregon and Seattle, Washington to Vancouver, British Columbia, Canada as a high-speed rail corridor pursuant to section 1010 of the Intermodal Surface Transportation Efficiency Act of 1991 (ISTEA). As part of phase one of the long-term plan to develop high-speed intercity passenger service on the corridor, the Washington State Department of Transportation proposes to improve the Burlington Northern Santa Fe mainline between the City of Kelso and Martin's Bluff (south of Kalama, Washington). Proposed improvements include: additional tracks and associated roadbed, drainage structures, signal systems, and other related facilities. FHWA and FRA, as joint lead federal agencies, in cooperation with the Washington State Department of Transportation (WSDOT), will prepare an environmental impact statement on WSDOT's proposal. The purpose of this corridor improvement project is to increase capacity for passenger rail service along the Pacific Northwest Rail Corridor. This increased capacity will result in faster, safer, more reliable and more frequent service. The added capacity along the main line is also expected to have secondary benefits for freight rail movement.

The three agencies intend to implement agency and public involvement programs that will describe the proposed action and solicit comment from citizens, organizations, and federal, state, and local agencies on the proposed improvements and possible environmental considerations. The agencies will solicit comments and questions, which may be provided by telephone, internet, public meetings, and the mail. In addition, targeted direct mail, advertisements, and media relations efforts may be used to reach the public and agencies.

Public scoping meetings are being held on March 28, 2001 in Kalama and on March 29, 2001 in Kelso as announced by the Washington State Department of Transportation. The scoping meetings are to include presentations by the agencies about the scope of the project and an opportunity for the public and agency representatives to ask questions and provide comments and suggestions regarding the project and relevant environmental considerations. The comments made at these scooping meetings will be considered in preparation of the scope of the Draft Environmental Impact Statement along with subsequent comments submitted by April 30, 2001. Comments submitted after that date will be considered to the greatest extent possible.

Following completion of the scoping process, the agencies will initiate appropriate environmental and related studies. Following completion of the environmental analysis, the agencies will issue a draft environmental impact statement which will be circulated for public and agency comment. Advertisements offering interested persons the opportunity to attend and offer comments at a public hearing will be published contemporaneously with the circulation of the draft environmental impact statement. Public notice of actions related to the proposal that identify the date, time, place of meetings, and the length of review periods will be published at the appropriate time.

To ensure that the full range of issues related to this proposed improvement program and its reasonable alternatives are addressed and all significant issues are identified, comments and suggestions are invited from all interested parties. Comments or questions concerning this proposed action, the scoping process, and the environmental impact statement should be directed to the FHWA or FRA at the address provided above.

(Catalog of Federal Domestic Assistance Program Number 20.205, Highway Research, Planning and Construction. The regulations implementing Executive Order 12372 regarding intergovernmental consultation of federal programs and activities apply to this program.)
Gary S. Hughes,
Operations Team Leader, Federal Highway Administration, Washington Division.
Mark E. Yachmetz,
Associate Administrator for Railroad Development, Federal Railroad Administration.

[FR Doc. 01-8014 Filed 3-30-01; 8:45 am]

BILLING CODE 4910-06-M; 4910-22-M